Proclamation 9023 of September 20, 2013

National Historically Black Colleges and Universities Week, 2013

By the President of the United States of America

A Proclamation

Before the Civil War, an education—much less a college education—was out of reach for most African Americans. There were few institutions focused on meeting the intellectual curiosity and spurring the academic growth of African American students. But as our Union began to heal from the wounds of war, and the 13th, 14th, and 15th Amendments were signed, a freed people demanded a freed mind, and courageous leaders began expanding what we now know as our Nation's Historically Black Colleges and Universities (HBCUs).

More than a century and a half later, we cannot overstate the role HBCUs have played in the narrative of our country. These are the institutions that helped build a middle class and produced some of our Nation's preeminent thinkers and entrepreneurs, doctors and scientists, judges and lawyers, service members and educators. These are the schools where students banded together in open fields and assembly halls as part of a movement that pushed us closer to true freedom and equality for all. And these are the campuses where generations of students not only gained the education and skills necessary for the workforce, but also cultivated an understanding of history and knowledge of self that are necessary in life.

As we move toward our goal of having the highest proportion of college graduates in the world by 2020, HBCUs continue to provide pathways of opportunity for students across our country. Ensuring these schools have the resources they need to help students reach their fullest potential remains a top priority for my Administration, and we have taken steps to keep these institutions strong—from providing funding for infrastructure and technology to increasing our investments in Pell Grants.

During National Historically Black Colleges and Universities Week, we pay tribute to the legacies of these proud halls of higher learning. And as we reflect on the past, let us also draw strength from the founders of these institutions and move forward with the work of making sure the doors to a quality education are open to all.

NOW, THEREFORE, I, BARACK OBAMA, President of the United States of America, by virtue of the authority vested in me by the Constitution and the laws of the United States, do hereby proclaim September 22 through September 28, 2013, as National Historically Black Colleges and Universities Week. I call upon educators, public officials, professional organizations, corporations, and all Americans to observe this week with appropriate programs, ceremonies, and activities that acknowledge the countless contributions these institutions and their alumni have made to our country.

IN WITNESS WHEREOF, I have hereunto set my hand this twentieth day of September, in the year of our Lord two thousand thirteen, and of the Independence of the United States of America the two hundred and thirty-eighth.

[FR Doc. 2013-23543

Filed 9-24-13; 11:15 am]

Billing code 3295-F3